DEPARTMENT OF TRANSPORTATION

Federal Aviation Administration

14 CFR Part 71

[Docket No. FAA-2018-0050; Airspace Docket No. 17-AEA-3]

RIN 2120-AA66

Establishment of Canadian Area Navigation (RNAV) Route T-705; Northeastern United States

AGENCY: Federal Aviation Administration (FAA), DOT.

ACTION: Final rule.

SUMMARY: This action establishes Canadian area navigation (RNAV) route T-705 in the Northeastern United States (U.S.) by extending the route into U.S. airspace. The FAA is taking this action to expand the availability of RNAV routing and fill a gap in routing in northeastern New York that resulted from the decommissioning of the Plattsburgh, NY, VHF Omnidirectional Range Tactical Air Navigation (VORTAC).

DATES: Effective date 0901 UTC, September 13, 2018. The Director of the Federal Register approves this incorporation by reference action under Title 1, Code of Federal Regulations, part 51, subject to the annual revision of FAA Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: Paul Gallant, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the National Airspace System route structure as necessary to preserve the safe and efficient flow of air traffic.

History

The FAA published a notice of proposed rulemaking in the Federal Register for Docket No. FAA-2018-0050 (83 FR 9452; March 6, 2018), to establish Canadian area navigation (RNAV) route T-705 in the Northeastern United States (U.S.) by extending the route into U.S. airspace. The FAA proposed this action to expand the availability of RNAV routing and to fill a gap in routing in northeastern New York that resulted from the decommissioning of the Plattsburgh, NY, VORTAC. The PBERG, NY, waypoint (WP) has been established and charted near the location of the former Plattsburgh, NY, VORTAC.

Interested parties were invited to participate in this rulemaking effort by submitting written comments on the proposal. Two comments were received; both supported the proposal.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Rule

The FAA is amending Title 14, Code of Federal Regulations (14 CFR), part 71 by establishing Canadian RNAV route T-705 in the northeastern U.S. by extending the route into U.S. airspace. T-705 currently extends between the IKNAR, Canada, WP, located approximately 90 nautical miles (NM) north of Montreal, Canada, and the DUNUP, Canada, WP, located approximately 25 NM southeast of Montreal. This action extends T-705 from the DUNUP, Canada, WP through the EBDOT, Canada WP, then into U.S. airspace via the LATTS, NY, and PBERG, NY, WPs. From the PBERG WP, the route proceeds to the RIGID, NY, fix, and from that point, it overlies VOR Federal airway V-196 to the Utica, NY, VORTAC. The amended T-705 provides continuous RNAV routing between Utica, NY, and Montreal, Canada, and points north of Montreal to the IKNAR, Canada, WP.

Canadian area navigation routes that extend into United States airspace are published in paragraph 6013 of FAA Order 7400.11B, dated August 3, 2017 and effective September 15, 2017, which is incorporated by reference in 14 CFR 71.1. The area navigation route listed in this document will be subsequently published in the Order.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of establishing Canadian RNAV route T-705 in the U.S. qualifies for categorical exclusion under the National Environmental Policy Act and its implementing regulations at 40 CFR part 1500, and in accordance with FAA Order 1050.1F, Environmental Impacts: Policies and Procedures, Paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to cause any potentially significant environmental impacts. In accordance with FAA Order 1050.1F, paragraph 5-2 regarding Extraordinary Circumstances, the FAA has reviewed this action for factors and circumstances in which a normally categorically excluded action may have a significant environmental impact requiring further analysis. The FAA determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017 and effective September 15, 2017, is amended as follows:

Paragraph 6013 Canadian Area Navigation Routes.

* * * * *

T-705 Utica, NY (UCA) to IKNAR, Canada [New]

Utica, NY (UCA) | VORTAC | (Lat. 43°01′35.45″ N, long. 75°09′52.28″ W).
USICI, NY | Fix | (Lat. 43°11′23.04″ N, long. 75°03′06.15″ W).
GACKE, NY | Fix | (Lat. 43°19′11.10″ N, long. 74°57′40.88″ W).
BECKS, NY | Fix | (Lat. 43°32′56.63″ N, long. 74°48′03.47″ W).
SMAIR, NY | Fix | (Lat. 44°03′32.47″ N, long. 74°26′20.99″ W).
FOSYU, NY | Fix | (Lat. 44°12′25.39″ N, long. 74°19′58.15″ W).
Saranac Lake, NY (SLK) | VOR/DME | (Lat. 44°23′04.41″ N, long. 74°12′16.21″ W).
RIGID, NY | Fix | (Lat. 44°35′19.53″ N, long. 73°44′34.07″ W).
PBERG, NY | WP | (Lat. 44°42′06.25″ N, long. 73°31′22.18″ W).
LATTS, NY | WP | (Lat. 44°51′29.78″ N, long. 73°32′29.26″ W).
EBDOT, CD | WP | (Lat. 45°05′25.23″ N, long. 73°34′01.25″ W).
DUNUP, CD | WP | (Lat. 45°17′34.90″ N, long. 73°35′21.89″ W).
TAMKO, CD | INT | (Lat. 46°02′54.00″ N, long. 73°54′39.00″ W).
LIVBA, CD | WP | (Lat. 46°14′17.05″ N, long. 73°57′05.38″ W).
NOSUT, CD | WP | (Lat. 46°21′38.00″ N, long. 73°58′38.00″ W).
IKNAR, CD | WP | (Lat. 47°11′35.44″ N, long. 74°09′31.38″ W).

Excluding the airspace within Canada.

Issued in Washington, DC, on July 2, 2018.
Rodger A. Dean Jr.,
Manager, Airspace Policy Group.

[FR Doc. 2018-14672 Filed 7-9-18; 8:45 am]

BILLING CODE 4910-13-P